SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: July 1-31, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and 806.22(f) for the time period specified above:

Rescinded ABR(e) Issued June 1-31, 2015

1. Marcellus GTL, LLC, Altoona Project, ABR-201307005, Blair and Allegheny Townships, Blair County, Pa.: Rescind Date: July 29, 2015.

Rescinded ABR(f) Issued July 1-31, 2015

1. Chief Oil & Gas, LLC, Pad ID: Inderlied Drilling Pad, ABR-201304020, Lathrop Township, Susquehanna County, Pa.; Rescind Date: June 5, 2015.

2. Energy Incorporated, Pad ID: Everbe Farms Unit B, ABR-201202024, Franklin Township, Lycoming County, Pa.; Rescind Date: June 24, 2015.

3. XTO Energy Incorporated, Pad ID: Free Library Unit E, ABR-201107024, Beech Creek Township, Clinton County, Pa.; Rescind Date: June 24, 2015.

4. XTO Energy Incorporated, Pad ID: PA Tract Unit H, ABR-201206018, Chapman Township, Clinton County, Pa.; Rescind Date: June 24, 2015.

5. XTO Energy Incorporated, Pad ID: PA Tract K, ABR-201208014, Chapman Township, Clinton County, Pa.; Rescind Date: June 24, 2015.

6. XTO Energy Incorporated, Pad ID: Shaner8507H, ABR-201011019, Jordon Township, Lycoming County, Pa.; Rescind Date: June 24, 2015.

7. XTO Energy Incorporated, Pad ID: West Brown A, ABR-201210008, Moreland Township, Lycoming County, Pa.; Rescind Date: June 24, 2015.

8. XTO Energy Incorporated, Pad ID: West Brown B, ABR-201209005, Moreland Township, Lycoming County, Pa.; Rescind Date: June 24, 2015.

9. WPX Energy Appalachia, LLC, Pad ID: S. Farver 1V, ABR-201008102, Benton Township, Columbia County, Pa.; Rescind Date: June 24, 2015.

10. WPX Energy Appalachia, LLC, Pad ID: Campbell Well Pad, ABR-201012010, Benton Township, Columbia County, Pa.; Rescind Date: June 24, 2015.

11. SWN Production Company, LLC, Pad ID: Wells Pad, ABR-201011014, Benton Township, Lackawanna County, Pa.; Rescind Date: June 24, 2015.

12. SWN Production Company, LLC, Pad ID: NR-19 WALKER-DIEHL PAD, ABR-201412009, Oakland Township, Susquehanna County, Pa.; Rescind Date: June 24, 2015.

13. SWEPI, LP, Pad ID: Fox 813, ABR-201007006, Gaines Township, Tioga County, Pa.; Rescind Date: June 25, 2015.

14. SWEPI, LP, Pad ID: Geiser 907, ABR-201104003, Abbott Township, Potter County, Pa.; Rescind Date: June 25, 2015.

15. SWEPI, LP, Pad ID: Granger 850, ABR-201101004, Gaines Township, Tioga County, Pa.; Rescind Date: June 25, 2015.

16. SWEPI, LP, Pad ID: Granger 853, ABR-201203017, Gaines Township, Tioga County, Pa.; Rescind Date: June 25, 2015.

17. SWEPI, LP, Pad ID: McConnell 471, ABR-201012055, Charleston Township, Tioga County, Pa.; Rescind Date: June 25, 2015.

18. SWEPI, LP, Pad ID: Palmer 809, ABR-201006106, Chatham Township, Tioga County, Pa.; Rescind Date: June 25, 2015.

19. SWEPI, LP, Pad ID: Ritter 828, ABR-201008136, Gaines Township, Tioga County, Pa.; Rescind Date: June 25, 2015.

20. SWEPI, LP, Pad ID: Schimmell 828, ABR-201010052, Farmington Township, Tioga County, Pa.; Rescind Date: June 25, 2015.

21. SWEPI, LP, Pad ID: Sherman 498, ABR-201009101, Richmond Township, Tioga County, Pa.; Rescind Date: June 25, 2015.

22. SWEPI, LP, Pad ID: Smith 140, ABR-201007079, Charleston Township, Tioga County, Pa.; Rescind Date: June 25, 2015.

23. SWEPI, LP, Pad ID: State 811, ABR-201009020, Elk Township, Tioga County, Pa.; Rescind Date: June 25, 2015.

24. SWEPI, LP, Pad ID: State 814, ABR-201010007, Elk Township, Tioga County, Pa.; Rescind Date: June 25, 2015.

25. SWEPI, LP, Pad ID: State 816, ABR-201010039, Elk Township, Tioga County, Pa.; Rescind Date: June 25, 2015.

26. SWEPI, LP, Pad ID: State 818, ABR-201010038, Elk Township, Tioga County, Pa.; Rescind Date: June 25, 2015.

27. SWEPI, LP, Pad ID: State 819, ABR-201007039, Gaines Township, Tioga County, Pa.; Rescind Date: June 25, 2015.

28. SWEPI, LP, Pad ID: State 820, ABR-201010037, Gaines Township, Tioga County, Pa.; Rescind Date: June 25, 2015.

29. SWEPI, LP, Pad ID: State 824, ABR-201007041, Gaines Township, Tioga County, Pa.; Rescind Date: June 25, 2015.

30. SWEPI, LP, Pad ID: State 825, ABR-201007042, Gaines Township, Tioga County, Pa.; Rescind Date: June 25, 2015.

31. SWEPI, LP, Pad ID: State 826, ABR-201007043, Shippen Township, Tioga County, Pa.; Rescind Date: June 25, 2015.

32. SWEPI, LP, Pad ID: State 827, ABR-201010036, Elk Township, Tioga County, Pa.; Rescind Date: June 25, 2015.

33. SWEPI, LP, Pad ID: State 841, ABR-201010035, Elk Township, Tioga County, Pa.; Rescind Date: June 25, 2015.

34. SWEPI, LP, Pad ID: State 842, ABR-201010047, Elk Township, Tioga County, Pa.; Rescind Date: June 25, 2015.

35. SWEPI, LP, Pad ID: State 843, ABR-201010048, Elk Township, Tioga County, Pa.; Rescind Date: June 25, 2015.

36. SWEPI, LP, Pad ID: State 844, ABR-201009021, Elk Township, Tioga County, Pa.; Rescind Date: June 25, 2015.

37. SWEPI, LP, Pad ID: Stewart 805, ABR-201007003, Elk Township, Tioga County, Pa.; Rescind Date: June 25, 2015.

38. SWEPI, LP, Pad ID: Wood 513R, ABR-201007014, Rutland Township, Tioga County, Pa.; Rescind Date: June 30, 2015.

39. Chesapeake Appalachia, LLC, Pad ID: Gunn, ABR-201101006, Rome Township, Bradford County, Pa.; Rescind Date: July 1, 2015.

40. Chesapeake Appalachia, LLC, Pad ID: Lantz, ABR-201102025, Sheshequin Township, Bradford County, Pa.; Rescind Date: July 1, 2015.

41. Chesapeake Appalachia, LLC, Pad ID: King, ABR-201103050, Sheshequin Township, Bradford County, Pa.; Rescind Date: July 1, 2015.

42. Anadarko E&P Onshore, LLC, Pad ID: Abel, ABR-201010062, Shrewsbury Township, Sullivan County, Pa.; Rescind Date: July 27, 2015.

43. Anadarko E&P Onshore, LLC, Pad ID: COP Tr 231 Pad E, ABR-201007097, Boggs Township, Sullivan County, Pa.; Rescind Date: July 27, 2015.

44. Anadarko E&P Onshore, LLC, Pad ID: Field, ABR-201010020, Cherry Township, Sullivan County, Pa.; Rescind Date: July 27, 2015.

45. Anadarko E&P Onshore, LLC, Pad ID: Jason M. Phillips Pad A, ABR-201007070, Cogan House Township, Lycoming County, Pa.; Rescind Date: July 27, 2015.

46. Anadarko E&P Onshore, LLC, Pad ID: Kohler, ABR-201009103, Liberty Township, Tioga County, Pa.; Rescind Date: July 27, 2015.

47. Anadarko E&P Onshore, LLC, Pad ID: Marilyn Ely, ABR-201008143, Gamble Township, Lycoming County, Pa.; Rescind Date: July 27, 2015.

48. Anadarko E&P Onshore, LLC, Pad ID: Maurice D Bieber Pad A, ABR-201008024, Cascade Township, Lycoming County, Pa.; Rescind Date: July 27, 2015.

49. Anadarko E&P Onshore, LLC, Pad ID: Stephen M Sleboda Pad A, ABR-201112008, Cascade Township, Lycoming County, Pa.; Rescind Date: July 27, 2015.

50. Chesapeake Appalachia, LLC, Pad ID: Lyon, ABR-201201038, Tuscarora Township, Bradford County, Pa.; Rescind Date: July 31, 2015.

51. XTO Energy Incorporated, Pad ID: King Unit, ABR-20091225.R1, Shrewsbury Township, Lycoming County, Pa.; Rescind Date: July 31, 2015.

Authority: Pub. L. 91-575, 84 Stat. 1509 et seq., 18 CFR parts 806, 807, and 808.

Dated: October 8, 2015.
Stephanie L. Richardson,
Secretary to the Commission.

[FR Doc. 2015-26163 Filed 10-14-15; 8:45 am]

BILLING CODE 7040-01-P